DEPARTMENT OF AGRICULTURE

Agricultural Research Service

Center for Nutrition Policy and Promotion Office of Public Health and Science Dietary Guidelines Advisory Committee: Notice of Availability of the Final Report, Public Meeting, and Public Comment Period

AGENCIES: Department of Agriculture (USDA) and Department of Health and Human Services (HHS).

ACTION: Notice.

SUMMARY: The Department of Agriculture (USDA) and the Department of Health and Human Services (HHS) (a) announce the availability of the final Report of the Dietary Guidelines Advisory Committee (the Committee) (b) solicit written comments on the final Report, and (c) provide notice of a public meeting to solicit oral comments on the Report. The meeting will be held at the Jefferson Auditorium of the South Agriculture Building, 1400 Independence Avenue, SW, Washington, DC, near the Smithsonian Metro Station. No registration is required to attend the public meeting, but pre-registration is required to provide oral comments at the meeting.

DATES: (a) Written comments on the Committee Report can be submitted and must be received by the Agencies on or before March 15, 2000. (b) The public meeting to solicit oral comments on the Report will be held on March 10, 2000, from 9 a.m. to 1 p.m. E.S.T.

ADDRESSES: The final Report is available electronically and in hard copy; for availability and contact and meeting addresses, refer to Unit I. of the “SUPPLEMENTARY INFORMATION” section.

FOR FURTHER INFORMATION CONTACT: Shanthy Bowman, Ph.D., USDA, Agricultural Research Service, 10300 Baltimore Boulevard, Building 005, BARC-West, Beltsville, MD 20705-2350, (301) 504-0619; Carole Davis, M.S., R.D., USDA Center for Nutrition Policy and Promotion, 1120 20th St., NW, Suite 200 North Lobby, Washington, DC 20036, (202) 418-2312; or Kathryn McMurry, M.S., Office of Disease Prevention and Health Promotion, Office of Public Health and Science, Room 738-G, 200 Independence Ave., SW, Washington, DC 20201, (202) 205-4872.

SUPPLEMENTARY INFORMATION:

I. General Information

A. How Can I Get a Copy of the Report?

Electronically, the Report can be downloaded from the Internet in .PDF file format at http://www.ars.usda.gov/dgac. Hard copies of the Report are available for review at the Reference Section of the National Agricultural Library located at 10301 Baltimore Boulevard, Beltsville, MD, 20705. The telephone number is (301) 504-5755.

B. How and to Whom Do I Submit Written Comments?

You may submit written comments to Shanthy Bowman, Ph.D., USDA, Agricultural Research Service, BHNRC/CNRG, 10300 Baltimore Boulevard, Building 005, Room 125, BARC-West, Beltsville, MD, 20705-2350, (301)-504-0619, and Kathryn McMurry, M.S., DHHS, Office of Disease Prevention and Health Promotion, Office of Public Health and Science, Room 738-G, 200 Independence Ave., SW, Washington, DC 20201, (202) 205-4872.

C. How Do I Register To Present Oral Comments?

Registration is required to provide oral input at the public meeting on March 10, 2000. Requests to provide oral input at the meeting should be submitted by 5:00 p.m. E.S.T., March 7, 2000, to Kathryn McMurry, M.S., DHHS, Office of Disease Prevention and Health Promotion, (202) 205-4872 (phone), (202) 205-0463 (fax). Name of the presenter, organization affiliation (if applicable), source of funding, and contact phone number are required for registration. Registration is free. One person per organization will be selected on first come basis. Presentations should be limited to three (3) minutes or less. Registration will also be accepted at the meeting, if time slots are available.

II. Background

Nutrition and Your Health: Dietary Guidelines for Americans, published jointly by USDA and HHS, provides recommendations based on current scientific knowledge about how dietary intake may reduce risk for major chronic diseases and how a healthful diet may improve nutrition. The guidelines form the basis of Federal food, nutrition education, and information programs. First published in 1980, Dietary Guidelines were revised in 1985,1990, and 1995. Public Law 101-445, Section 3 requires review and revision as necessary of the Dietary Guidelines every five years. This legislation also requires review by the Secretaries of USDA and HHS of all Federal dietary guidance-related publications for the general public. The fifth edition of the Dietary Guidelines for Americans is scheduled for release in 2000.

The 11 member Dietary Guidelines Advisory Committee was jointly appointed by the Secretaries of USDA and HHS in 1998, to review the fourth edition of the Dietary Guidelines for Americans to determine if changes are needed, and if so, to recommend suggestions for revision. The Committee, in the first meeting held in September 1998, determined that a revision was warranted. The Committee has submitted its report to the Secretaries of Departments of Agriculture and Health and Human Services. This report will serve as the basis for the fifth edition of Nutrition and Your Health: Dietary Guidelines for Americans.

Dated: February 14, 2000.
Eileen T. Kennedy,
Deputy Under Secretary, Research, Education, and Economics, Department of Agriculture.
Julie Paradis,
Deputy Under Secretary, Food, Nutrition, and Consumer Services, Department of Agriculture.
Nicole Lurie,
Principal Deputy Assistant Secretary for Health, Department of Health and Human Services.

[FR Doc. 00-3876 Filed 2-17-00; 8:45 am]

BILLING CODE 3410-03-P